DEPARTMENT OF DEFENSE

Department of the Army

[Docket ID: USA-2016-HQ-0007]

Privacy Act of 1974; System of Records

AGENCY: Department of the Army, DoD.

ACTION: Notice to alter a System of Records.

SUMMARY: The Department of the Army proposes to alter a system of records notice AAFES 0602.04a, entitled “Legal Office Management System,” to review and process charges and claims of unfair labor practices through formal/informal negotiations; to review and process bankruptcy related claims; for managerial and statistical reports; to process other legal complaints against individuals; to initiate litigation as necessary; to investigate other claims and prepare responses; and to defend the Exchange in civil suits filed against it in the Federal Court System.

DATES: Comments will be accepted on or before April 11, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3827 or by calling (703) 428-7499.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/.

The proposed systems reports, as required by 5 U.S.C. 552a(r) of the Privacy Act, as amended, were submitted on February 18, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 7, 2016.
Aaron Siegel,
Alternate OSD Federal Register Liaison Officer, Department of Defense.

AAFES 0602.04a

System name:

Legal Office Management System (May 9, 2001, 66 FR 23683)

Changes:

System identifier:

Delete entry and replace with “AAFES 0602.04”.

* * * * *

System location:

Delete entry and replace with “Office of the General Counsel at Headquarters, Army and Air Force Exchange Service, 3911 S. Walton Walker Boulevard, Dallas, TX 75236-1598; Personnel offices at Exchange Regions and Area Exchanges at posts, bases, and satellites world-wide. Official mailing addresses are published as an appendix to the Army's compilation of systems of records notices.”

Categories of individuals covered by the system:

Delete entry and replace with “Employees of the Army and Air Force Exchange Service (Exchange) who are permitted to file charges/claims pursuant to Executive Order 11491, as amended; individuals who file any other type of complaint and/or claim or similar pleading in a court or administrative body against the Exchange; individuals involved with the Exchange on other legal matters or proceedings, including bankruptcy; an Exchange employee who is named as a defendant; individuals against whom the Exchange has filed a complaint or similar pleading in a court or administrative body, and/or other individuals who are involved in the investigation or legal matter.”

Categories of records in the system:

Delete entry and replace with “Individual's or claimant's name, address, phone number, AAFES case number, Social Security Number (SSN), date of birth, sex, marital status, age, credit card number, credit account history, bankruptcy data and similar information that could be used as evidence in litigation or to further an investigation, as well as materials and information received from opposing counsel or outside sources involved in a legal matter, e.g. exhibits; individual's or claimant's counsel name, address and phone number. These items may be included in written allegations of unfair labor practice; supporting correspondence, documentation, memoranda, opinions, or other related materials involved in representing the Exchange in unfair labor practice or bankruptcy claims; or individuals involved with the Exchange on other legal matters or proceedings.”

Authority for maintenance of the system:

Delete entry and replace with “10 U.S.C. 3013, Secretary of the Army; 10 U.S.C. 8013, Secretary of the Air Force; E.O. 11491, Labor-management Relations in the Federal Service, as amended; Army Regulation 60-21, Exchange Service Personnel Policies; Army Regulation 215-1, Military Morale, Welfare, and Recreation Activities and Nonappropriated Fund Instrumentalities; Army Regulation 215-8/AFI 34-211(I), Army and Air Force Exchange Service Operations; and E.O. 9397 (SSN), as amended.”

Purpose(s):

Delete entry and replace with “To review and process charges and claims of unfair labor practices through formal/informal negotiations; to review and process bankruptcy related claims; for managerial and statistical reports; to process other legal complaints against individuals; to initiate litigation as necessary; to investigate other claims and prepare responses; and to defend the Exchange in civil suits filed against it in the Federal Court System.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

Disclosure to consumer reporting agencies. Disclosures pursuant to 5 U.S.C. 552a(b)(12) may be made from this system to `consumer reporting agencies' as defined in the Fair Credit Reporting Act (15 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

Disclosure of records is limited to the individual's name, address, Social Security Number (SSN), and other information necessary to establish the individual's identity; the amount, status, and history of the claim; and the agency program under which the claim arose. This disclosure will be made only after the procedural requirement of 31 U.S.C. 3711(f) has been followed.

The DoD Blanket Routine Uses set forth at the beginning of the Army's compilation of system of records notices may apply to this system. The complete list of DoD Blanket Routine Uses can be found online at: http://dpcld.defense.gov/Privacy/SORNsIndex/BlanketRoutineUses.aspx.”

Policies and Practices For Storing, Retrieving, Accessing, Retaining, and Disposing of Records in the System:

Storage

Delete entry and replace with “Electronic storage media and paper records.”

Retrievability:

Delete entry and replace with “By the individual's surname and SSN of defendant in the proceeding.”

Safeguards:

Delete entry and replace with “Records are maintained in a controlled facility. Physical entry is restricted by the use of locks, guards, and is accessible only to authorized personnel. Access to records is limited to person(s) with an official need to know who are responsible for servicing the record in performance of their official duties. Persons are properly screened and cleared for access. Access to computerized data is role-based and further restricted by passwords, which are changed periodically. In addition, integrity of automated data is ensured by internal audit procedures, data base access accounting reports and controls to preclude unauthorized disclosure.”

Retention and Disposal:

Delete entry and replace with “Documents relating to legal opinions establishing precedence policies, and procedures regarding laws, regulations, directives, and decision, and their effect on the Exchange are maintained permanently. Litigation case files are cutoff at the close of the Exchange fiscal year in which the case is closed and then destroyed by shredding or by erasing/reformatting electronic media 10 years thereafter. Unfair Labor Claims/Charges are maintained for 3 years after the claim is closed, then retained for 5 years in an active file, then transferred to the servicing Exchange warehouse or General Services Administration records holding center for an additional 5 years at which time they are destroyed either by shredding or erasing/reformatting the electronic media. Workers' Compensation files are maintained at the corporate level for a period of one year after the case is closed and then transferred to the Federal Record Center for a period of 30 years after the close date and destroyed by shredding and erasing/reformatting electronic media. All other files are maintained for a period of 10 years after the closing of the case or judicial proceedings have been resolved, after which they are destroyed by shredding or erasing/reformatting electronic media.”

System Manager(s) and Address:

Delete entry and replace with “Director/Chief Executive Officer, Army and Air Force Exchange Service, 3911 S. Walton Walker Boulevard, Dallas, TX 75236-1598.”

Notification Procedure:

Delete entry and replace with “Individuals seeking to determine whether information about themselves is contained in this system should address written inquiries to the Director/Chief Executive Officer, Army and Air Force Exchange Service, 3911 S. Walton Walker Boulevard, Dallas, TX 75236-1598.

Individual should provide their full name, SSN, current address and telephone number, last employing station, AAFES case number if applicable and details sufficient to assist in locating the record, and signature.

In addition, the requestor must provide a notarized statement or an unsworn declaration made in accordance with 28 U.S.C. 1746, in the following format:

If executed outside the United States: `I declare (or certify, verify, or state) under penalty of perjury under the laws of the United States of America that the foregoing is true and correct. Executed on (date). (Signature)'

If executed within the United States, its territories, possessions, or commonwealths: `I declare (or certify, verify, or state) under penalty of perjury that the foregoing is true and correct. Executed on (date). (Signature)'.”

Record Access Procedures:

Delete entry and replace with “Individuals seeking access to information about themselves contained in this system should address written inquiries to the Director/Chief Executive Officer, Army and Air Force Exchange Service, ATTN: FOIA/Privacy Manager, 3911 S. Walton Walker Boulevard, Dallas, TX 75236-1598.

Individual should provide their full name, SSN, current address and telephone number, last employing station, AAFES case number if applicable and details sufficient to locate the record, and signature.

In addition, the requestor must provide a notarized statement or an unsworn declaration made in accordance with 28 U.S.C. 1746, in the following format:

If executed outside the United States: `I declare (or certify, verify, or state) under penalty of perjury under the laws of the United States of America that the foregoing is true and correct.

Executed on (date). (Signature).'

If executed within the United States, its territories, possessions, or commonwealths: `I declare (or certify, verify, or state) under penalty of perjury that the foregoing is true and correct. Executed on (date). (Signature)'.”

* * * * *

Record Source Categories:

Delete entry and replace with “From the individual, the union representative, witnesses, official records of the Army and Air Force Exchange Service, Defense Enrollment and Eligibility Reporting System (DEERS) and other DoD systems as applicable per the case.”

* * * * *

[FR Doc. 2016-05445 Filed 3-10-16; 8:45 am]

BILLING CODE 5001-06-P